SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses:

(OMB)

Office of Management and Budget, Attn: Desk Officer for SSA, New Executive Office Building, Room 10230, 725 17th St., NW, Washington, DC 20503

(SSA)

Social Security Administration, DCFAM, Attn: Reports Clearance Officer, 1A-21 Operations Bldg., 6401 Security Blvd., Baltimore, MD 21235

I. The information collections listed below will be submitted to OMB within 60 days from the date of this notice. Therefore, your comments should be submitted to SSA within 60 days from the date of this publication. You can obtain copies of the collection instruments by calling the SSA Reports Clearance Officer at 410-965-4145, or by writing to him at the address listed above.

1. Authorization To Obtain Earnings Data For The Social Security Administration-0960-0602. The information requested on Form SSA-581 is necessary only for identification of the earnings record, verification of the signature authorizing access to the earnings record and for disposition of the response. The respondents are individuals and various private/public organizations/agencies that need detailed earnings information.

Number of Respondents: 60,000.

Frequency of Response: 1.

Average Burden Per Response: 2 minutes.

Estimated Annual Burden: 2,000 hours.

2. Statement Regarding Contributions-0960-0020. Form SSA-783 is used to make a determination and obtain information about the source of support for a child applicant who must meet a dependency requirement for entitlement to benefits. The respondents are persons giving information about child's sources of support for entitlement to child's benefits.

Number of Respondents: 30,000.

Frequency of Response: 1.

Average Burden Per Response: 17 minutes.

Estimated Annual Burden: 8,500 hours.

3. Credit Card Payment Acknowledgement Form—0960-NEW. SSA will use the information collected on Form SSA-324 to process payments from separating and former employees who have outstanding debts owed to the agency. This form has been developed as a convenient method for respondents to satisfy such debts. The respondents are former employees who have debts still owed to the agency.

Number of Respondents: 6,000.

Frequency of Response: 1.

Average Burden Per Response: 5 minutes.

Estimated Annual Burden: 500 hours.

4. Online Authentication Information Collection Form—TEST—0960-NEW.

Background

The Government Paperwork Elimination Act (GPEA) of 1998 directed federal agencies to develop electronic service delivery instruments as an alternative to traditional paper based methods. The Social Security Administration plans to expand Internet services for all its applications to enable citizens to complete the application process as well as to process their requests for post-entitlement transactions online. A major requirement for filing applications and for processing transactional requests is SSA's ability to adequately authenticate the citizen. SSA cannot disclose information unless it is under the provisions of the FOIA and the Privacy Act of 1974. Because these transactions will be taking place online, SSA must authenticate citizens by asking for information that would positively identify the requester of the information as the proper party. This information will be validated against identifying information residing in databases outside of SSA. As a result SSA will conduct a test of the Treasury Department's Pay.Gov authentication engine as a possible tool for out-of-band authentication.

The Collection

The Social Security Administration will use the data collected on the Online Authentication Information Collection Form—TEST, to evaluate the Treasury Department's “Pay.Gov” authentication engine as a possible tool for SSA to validate out-of-band online applicants. The respondents for this test are members of the general public who elect to complete the form for testing.

Number of Respondents: 161.

Frequency of Response: 1.

Average Burden Per Response: 5 minutes.

Estimated Annual Burden: 13 hours.

II. The information collections listed below have been submitted to OMB for clearance. Your comments on the information collections would be most useful if received by OMB and SSA within 30 days from the date of this publication. You can obtain a copy of the OMB clearance package by calling the SSA Reports Clearance Officer on (410) 965-4145, or by writing to him at the address listed above.

1. Railroad Employment Questionnaire—0960-0078. The Social Security Administration (SSA) uses Form SSA-671 to secure sufficient information to effect the required coordination with the Railroad Retirement Board for Social Security claims processing. It is completed whenever claimants give indications of having been employed in the railroad industry. The respondents are applicants for Social Security benefits, who have had railroad employment, or dependents of railroad workers.

Number of Respondents: 125,000.

Frequency of Response: 1.

Average Burden Per Response: 5 minutes.

Estimated Annual Burden: 10,417 hours.

2. Employer Report of Special Wage Payments—0960-0565. SSA gathers the information on Form SSA-131 to prevent earnings related overpayments to employees and to avoid erroneous withholding. The respondents are employers who provide special wage payment verification.

Number of Respondents: 30,000.

Frequency of Response: 1.

Average Burden Per Response: 20 minutes.

Estimated Annual Burden: 10,000.

3. Request for Address Information from Motor Vehicles Records, SSA-L711; Request for Address Information from Employment Commissions Records, SSA-L712—0960-0341. SSA sends the SSA-L711 to State Motor Vehicle Adminstrations to obtain the last known address from driver's license and vehicle registration records. SSA sends the SSA-L712 to State Employment Commissions to obtain last known address from State unemployment/employment wage records. SSA uses the information to locate debtors to arrange for payment of a debt. The respondents are State Motor Vehicle Administrations and State Employment Commissions.

| SSA-L711 | SSA-L712
Number of Respondents | 1,300 | 1,100
Frequency of Response | 1 | 1
Average Burden Per Response | 2 minutes | 2 minutes
Estimated Annual Burden | 43 hours | 37 hours

Dated: December 20, 2001.
Frederick W. Brickenkamp,
Reports Clearance Officer, Social Security Administration.

[FR Doc. 01-32027 Filed 12-28-01; 8:45 am]

BILLING CODE 4191-02-U